FEDERAL COMMUNICATIONS COMMISSION

47 CFR Part 79

[MB Docket No. 12-108; FCC 24-79; FR ID 280734]

Accessibility of User Interfaces, and Video Programming Guides and Menus

AGENCY: Federal Communications Commission.

ACTION: Final rule; announcement of compliance date.

SUMMARY: In this document, the Federal Communications Commission (Commission or FCC) announces that the Office of Management and Budget (OMB) has approved, for a period of three years, an information collection associated with implementing the requirement that manufacturers of covered apparatus and multichannel video programming distributors (MVPDs) make closed captioning display settings readily accessible to individuals who are deaf and hard of hearing, adopted by the Commission on July 18, 2024, in the Accessibility of User Interfaces, and Video Programming Guides and Menus Third Report and Order (Order). This document is consistent with the Order, which stated that the Commission would publish a document in the Federal Register announcing the compliance date of the “readily accessible” rule and revise the rule accordingly.

DATES:

Effective date: The amendment in this rule is effective February 21, 2025.

Compliance date: The compliance date for 47 CFR 79.103(e), published on August 15, 2024, at 89 FR 66268, and effective September 16, 2024, is August 17, 2026.

FOR FURTHER INFORMATION CONTACT: Diana Sokolow of the Policy Division, Media Bureau, (202) 418-0588, or by email to Diana.Sokolow@fcc.gov.

SUPPLEMENTARY INFORMATION: This document announces that OMB approved the information collection requirements in 47 CFR 79.103(e) on January 10, 2025.

The Commission publishes this document as an announcement of the compliance date of the rules. If you have any comments on the burden estimates listed below, or how the Commission can improve the collections and reduce any burdens caused thereby, please contact Cathy Williams, Federal Communications Commission, 45 L Street NE, Washington, DC 20554, regarding OMB Control Number 3060-1162. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), 1-844-4-FCC-ASL (1-844-432-2275) (videophone).

Synopsis

As required by the Paperwork Reduction Act of 1995 (44 U.S.C. 3507), the FCC is notifying the public that it received final OMB approval on January 10, 2025, for the information collection requirements contained in 47 CFR 79.103(e).

Under 5 CFR part 1320, an agency may not conduct or sponsor a collection of information unless it displays a current, valid OMB Control Number.

No person shall be subject to any penalty for failing to comply with a collection of information subject to the Paperwork Reduction Act that does not display a current, valid OMB Control Number. The foregoing notification is required by the Paperwork Reduction Act of 1995, Public Law 104-13, October 1, 1995, and 44 U.S.C. 3507.

The total annual reporting burdens and costs for the respondents are as follows:

OMB Control Number: 3060-1162.

OMB Approval Date: January 10, 2025.

OMB Expiration Date: January 31, 2028.

Title: Closed Captioning of Video Programming Delivered Using Internet Protocol, and Apparatus Closed Caption Requirements.

Form Number: N/A.

Respondents: Individuals or Household, Businesses or other for-profit, Not-for-profit institutions, State, local, or Tribal government, Federal Government.

Number of Respondents and Responses: 1,772 respondents; 124,154 responses.

Estimated Time per Response: 0.017-10 hours.

Frequency of Response: One time and on occasion reporting requirements; Recordkeeping requirement; Third party disclosure requirement.

Obligation to Respond: Mandatory; Required to obtain or retain benefits; Voluntary. The statutory authority for this collection is contained in the Twenty-First Century Communications and Video Accessibility Act of 2010, Public Law 111-260, 124 Stat. 2751, and sections 4(i), 4(j), 303, 330(b), 713, and 716 of the Communications Act of 1934, as amended (the Act), 47 U.S.C. 154(i), 154(j), 303, 330(b), 613, and 617.

Total Annual Burden: 11,465 hours.

Total Annual Cost: $95,700.

Needs and Uses: The Twenty-First Century Communications and Video Accessibility Act of 2010 (CVAA) directed the Commission to revise its regulations to mandate closed captioning on video programming delivered via Internet Protocol (IP) that was published or exhibited on television with captions after the effective date of the regulations. Accordingly, the Commission requires video programming owners (VPOs) to send program files to video programming distributors and providers (hereinafter VPDs) with required captions, and it requires VPDs to enable the rendering or pass through of all required captions to the end user. The CVAA also directed the Commission to revise its regulations to mandate that all apparatus designed to receive, play back, or record video programming be equipped with built-in closed caption decoder circuitry or capability designed to display closed-captioned video programming, except that apparatus that use a picture screen that is 13 inches or smaller and recording devices must comply only if doing so is achievable. These rules are codified at 47 CFR 79.4 and 79.100 through 79.104.

In July 2024, the Commission adopted rules requiring manufacturers of covered apparatus and MVPDs to make closed captioning display settings readily accessible to individuals who are deaf and hard of hearing (89 FR 66268, August 15, 2024). The Commission will determine whether settings are readily accessible to consumers by evaluating the following factors: proximity, discoverability, previewability, and consistency and persistence.

List of Subjects in 47 CFR Part 79

Cable television, Communications equipment, Satellite communications, Television.

Federal Communications Commission.
Marlene Dortch,
Secretary, Office of the Secretary.

Final Rules

For the reasons discussed in the preamble, the Federal Communications Commission amends 47 CFR part 79 to read as follows:

PART 79—ACCESSIBILITY OF VIDEO PROGRAMMING

1. The authority citation for part 79 continues to read as follows:

Authority: 47 U.S.C. 151, 152(a), 154(i), 303, 307, 309, 310, 330, 544a, 613, 617.

2. Amend § 79.103 by:

a. Revising paragraph (e)(2); and

b. Removing the note following paragraph (e)(2).

The revision reads as follows:

§ 79.103 Closed caption decoder and display requirements for apparatus.

* * * * *

(e) * * *

(2) Compliance with this paragraph (e) is required for devices that use next generation operating systems deployed after August 17, 2026.

* * * * *

[FR Doc. 2025-02816 Filed 2-20-25; 8:45 am]

BILLING CODE 6712-01-P